DEPARTMENT OF TRANSPORTATION

Federal Highway Administration

Environmental Impact Statement; Queens County, NY

AGENCY: Federal Highway Administration (FHWA), U.S. DOT.

ACTION: Notice of intent.

SUMMARY: The FHWA is issuing this notice to advise the public that an Environmental Impact Statement (EIS) will be prepared for a proposed construction project known as the Van Wyck Expressway Capacity & Access Improvements to John F. Kennedy (JFK) Airport, in Queens County, New York.

FOR FURTHER INFORMATION CONTACT: Harold Fink, Deputy Chief Engineer, New York State Department of Transportation, Hunters Point Plaza 47-40 21st Street, Long Island City, New York 11101, Telephone: (718) 482-4683; or Peter W. Osborn, Division Administrator, Federal Highway Administration, New York Division, Leo W. O'Brien Federal Building, 7th Floor, Clinton Avenue and North Pearl Street, Albany, New York 12207, Telephone: (518) 431-4127.

SUPPLEMENTARY INFORMATION: The FHWA, in cooperation with the New York State Department of Transportation (NYSDOT), will prepare an Environmental Impact Statement (EIS) in accordance with the National Environmental Policy Act (NEPA) on a proposal to provide increased capacity on the Van Wyck Expressway (I-678) between the Kew Gardens Interchange and JFK Airport.

The Van Wyck Expressway is the major transportation corridor providing access to and from JFK Airport. JFK Airport is a major international gateway to the United States that handles 58.9 million passengers with over 400,000 aircraft operations annually. The Van Wyck Expressway also serves as the major route for commercial truck traffic to get to and from the airport. The project is needed to provide increased capacity on the Van Wyck Expressway to and from JFK Airport; improve operations and geometry of ramps within the identified project limits; and address structural deficiencies on the bridges within the project limits.

The purpose of the project is to provide increased capacity on the Van Wyck Expressway between the Kew Gardens Interchange and JFK Airport to improve vehicular access to and from the airport. In addition, the project will address the operational, geometric, and structural deficiencies on the Van Wyck Expressway between the Kew Gardens Interchange and JFK Airport.

A reasonable range of alternatives is currently being developed and will be refined during the NEPA scoping process in consideration of agency and public comments received.

Letters describing the proposed action and soliciting comments will be sent to Cooperating and Participating Agencies. Public and agency outreach will include a formal public scoping meeting, a public hearing, and meetings with Cooperating and Participating Agencies. Public notice will be given of the date, time, and location of the scoping meeting and hearing. To assist in determining the scope of issues to be addressed and identifying the significant issues related to the proposed action, the general public will have the opportunity to submit written comments at the scoping meeting and during a scoping comment period. The draft EIS will be available for public and agency review and comment prior to the public hearing.

Comments or questions concerning this proposed action should be directed to the NYSDOT and FHWA at the addresses provided above.

Issued on: May 24, 2017.
Peter W. Osborn,
Division Administrator, Albany, New York.

[FR Doc. 2017-11303 Filed 5-31-17; 8:45 am]

BILLING CODE P